DEPARTMENT OF THE INTERIOR

Minerals Management Service

Beaufort Sea and Chukchi Sea Planning Areas Oil and Gas Lease Sales 209, 212, 217, and 221

AGENCY: Minerals Management Service, Interior.

ACTION: Notice of Extension of written comment period for the Draft Environment Impact Statement (DEIS) for Beaufort Sea and Chukchi Sea Planning Areas Oil and Gas Lease Sales 209, 212, 217, and 221.

SUMMARY: The MMS is extending the written comment period on the DEIS from March 16, 2009, to March 30, 2009.

SUPPLEMENTARY INFORMATION: The MMS published the Notice of Availability of the DEIS in the Federal Register on December 19, 2008 (72 FR 77835). The Notice of Availability provided for interested parties to submit written comments on the DEIS until March 16, 2009. The MMS is now extending the written comment period an additional 2 weeks, to March 30, 2009. Written comments may be submitted to the Regional Director, Alaska OCS Region, Minerals Management Service, 3801 Centerpoint Drive, Suite 500, Anchorage, Alaska 99503-5820, or online at http://ocsconnect.mms.gov.

FOR FURTHER INFORMATION CONTACT: Please contact Ms. Deborah Cranswick at (907) 334-5267 in MMS's Alaska OCS Region, 3801 Centerpoint Drive, Ste 500, Anchorage, AK 99503-5823.

Dated: February 10, 2009.
Chris C. Oynes,
Associate Director for Offshore Energy and Minerals Management.

[FR Doc. E9-4583 Filed 3-3-09; 8:45 am]

BILLING CODE 4310-MR-P